DEPARTMENT OF COMMERCE

National Oceanic and Atmospheric Administration

[Docket No. 080612761-8762-01]

Draft of the Education Strategic Plan for NOAA: Engaging Educators, Students and the Public To Meet NOAA's Mission Goals

AGENCY: Education Council, National Oceanic and Atmospheric Administration (NOAA), Commerce.

ACTION: Notice of availability and request for public comment.

SUMMARY: The National Oceanic and Atmospheric Administration (NOAA) is revising its Education Strategic Plan (Plan). NOAA recently received broad legislative authority from Congress through the America COMPETES Act to develop, support, promote, and coordinate education activities to enhance public awareness and understanding of the ocean, coastal, Great Lakes, and atmospheric science. The draft Plan establishes goals for NOAA education for the next twenty years as specified by the America COMPETES Act. NOAA encourages all stakeholders and users to review the Plan and provide comments.

DATES: Comments on this draft Plan must be received by 5 p.m. EDT on August 29, 2008.

ADDRESSES: The draft Plan will be available on the following Web site http://www.oesd.noaa.gov/draft_ed_plan.html.

Comments should be submitted electronically by e-mailing to Education.Plan@noaa.gov.

FOR FURTHER INFORMATION CONTACT: Steve Storck, Education Analyst, NOAA Office of Education, Phone: 202-482-2226, e-mail: Steve.Storck@noaa.gov.

SUPPLEMENTARY INFORMATION: Throughout its two-hundred year history, the National Oceanic and Atmospheric Administration (NOAA) has imparted scientific knowledge of the Earth's natural systems to benefit society. During this time, education was guided by the vision of leadership, the findings of researchers, the mandates of legislation for programs within NOAA, and to respond to the needs of society.

In 2007, Congress officially recognized the role of education in NOAA with the passage of the America COMPETES Act (Pub. L. 110-69). This legislation mandates NOAA to “conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

The Administrator, appropriate National Oceanic and Atmospheric Administration programs, ocean atmospheric science and education experts, and interested members of the public shall develop a science education plan setting forth education goals and strategies for the Administration, as well as programmatic actions to carry out such goals and priorities over the next 20 years, and evaluate and update such plan every 5 years.”

In support of these priorities, the legislation provides a mandate for the entire NOAA community to advance education efforts, focus them, coordinate them, and engage a broad community of partners in creating an environmentally literate society and a skilled workforce of scientists, managers and administrators in support of a sustainable economic future.

NOAA is revising its Education Strategic Plan as specified in the America COMPETES Act.

The Plan was developed through a collaborative effort led by educators across NOAA to guide the implementation of this new mandate and to advance the long standing educational mission of the agency.

NOAA welcomes all comments on the content of the draft Plan and requests comments on any inconsistencies perceived within the Plan, and possible omissions of important topics or issues. This draft Plan is being issued for comment only and is not intended for interim use. For any shortcoming noted within the draft Plan, please propose specific remedies. Suggested changes will be incorporated where appropriate, and a final Plan will be posted on the NOAA Web site.

Please follow the format guidance for preparing and submitting comments. Using the format guidance will facilitate the processing of comments and assure that all comments are appropriately considered.

Overview comments should be provided first and should be numbered. Comments that are specific to particular pages, paragraphs or lines of the section should identify the page and line numbers to which they apply. Please number each page of your comments.

Dated: July 8, 2008.
Louisa Koch,
Director of Education, National Oceanic and Atmospheric Administration.

[FR Doc. E8-16039 Filed 7-11-08; 8:45 am]

BILLING CODE 3510-12-P